DEPARTMENT OF THE INTERIOR

National Park Service

[NPS-WASO-NAGPRA-18277]; [PPWOCRADN0-PCU00RP15.R50000]

Notice of Intent To Repatriate Cultural Items: U.S. Department of Agriculture, Forest Service, Ozark-St. Francis National Forests, Russellville, AR

AGENCY: National Park Service, Interior.

ACTION: Notice.

SUMMARY: The U.S. Department of Agriculture (USDA), Forest Service, Ozark-St. Francis National Forests, in consultation with the appropriate Indian tribes or Native Hawaiian organizations, have determined that the cultural items listed in this notice meet the definition of unassociated funerary objects. Lineal descendants or representatives of any Indian tribe or Native Hawaiian organization not identified in this notice that wish to claim these cultural items should submit a written request to the Ozark-St. Francis National Forests. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Ozark-St. Francis National Forests at the address in this notice by July 9, 2015.

ADDRESSES: Reggie Blackwell, USDA, Forest Service, Ozark-St. Francis National Forests, 605 West Main, Russellville, AR 72801, telephone (479) 964-7200.

SUPPLEMENTARY INFORMATION: Notice is here given in accordance with the Native American Graves Protection and Repatriation Act (NAGPRA), 25 U.S.C. 3005, of the intent to repatriate cultural items under the control of the USDA, Forest Service, Ozark-St. Francis National Forests that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1985, four cultural items were removed from sites 3LE139 and 3PH233, the County Line site, from Federal land managed by the USDA Forest Service, Ozark-St. Francis National Forests, AR. The sites were looted by Rickey Joe Beard, who was successfully prosecuted in 1985 in violation of the Archeological Resources Protection Act. As part of his plea bargain, Beard showed the sites to the authorities. Beard reportedly collected human remains from the sites, but none of Beard's collections were returned to the Ozark-St. Francis National Forests. The four cultural items were collected from the surface in 1985. The County Line site is a prehistoric open site on a lower ridge spur and toe slope overlooking the St. Francis floodplain. The site was recorded in 1985 based on information from Beard and was revisited and probed by Michael Pfeiffer and Robin Toole, USDA, Forest Service, in 1990.

The four unassociated funerary objects are reconstructable vessels and identified as one Carson Red on Buff var. Olmond (a deep-profile flaring rim bowl); one plain everted rim jar; and two Barton Incised var. Kent (a flaring rim jar with three chronologically sensitive modes, var. Kent, the Memphis rim, and appliqué triangular handles). The cultural items date from A.D. 1450 to 1600.

Determinations Made by the Ozark-St. Francis National Forests

Officials of the Ozark-St. Francis National Forests have determined that:

• Pursuant to 25 U.S.C. 3001(3)(B), the four cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Quapaw Tribe of Indians.

Additional Requestors and Disposition

Lineal descendants or representatives of any Indian tribe or Native Hawaiian organization not identified in this notice that wish to claim these cultural items should submit a written request with information in support of the claim to Reggie Blackwell, USDA, Forest Service, Ozark-St. Francis National Forests, 605 West Main, Russellville, AR 72801, telephone (479) 964-7200, by July 9, 2015. After that date, if no additional claimants have come forward, transfer of control of the unassociated funerary objects to The Quapaw Tribe of Indians may proceed.

The Ozark-St. Francis National Forests are responsible for notifying the Absentee Shawnee Tribe of Indians of Oklahoma; Alabama-Quassarte Tribal Town; Caddo Nation of Oklahoma; Cherokee Nation; Coushatta Tribe of Louisiana; Delaware Nation, Oklahoma; Eastern Shawnee Tribe of Oklahoma; Jena Band of Choctaw Indians; Kialegee Tribal Town; Miami Tribe of Oklahoma; Mississippi Band of Choctaw Indians; Peoria Tribe of Indians of Oklahoma; Shawnee Tribe; The Chickasaw Nation; The Choctaw Nation of Oklahoma; The Muscogee (Creek) Nation; The Osage Nation (previously listed as the Osage Tribe); The Quapaw Tribe of Indians; The Seminole Nation of Oklahoma; Thlopthlocco Tribal Town; Tunica-Biloxi Indian Tribe; United Keetoowah Band of Cherokee Indians in Oklahoma; and the Wichita and Affiliated Tribes (Wichita, Keechi, Waco & Tawakonie), Oklahoma, that this notice has been published.

Dated: May 6, 2015.
Mariah Soriano,
Acting Manager, National NAGPRA Program.

[FR Doc. 2015-14115 Filed 6-8-15; 8:45 am]

BILLING CODE 4312-50-P